DEPARTMENT OF HOMELAND SECURITY

[Docket No. DHS-2015-0076]

Homeland Security Advisory Council—New Tasking

AGENCY: The Office of Intergovernmental Affairs/Partnership and Engagement, DHS.

ACTION: Notice of task assignment for the Homeland Security Advisory Council.

SUMMARY: The Secretary of the Department of Homeland Security (DHS), Jeh Johnson, tasked his Homeland Security Advisory Council to establish a subcommittee entitled Countering Violent Extremism (CVE) Subcommittee on September 28, 2015. The CVE Subcommittee will provide findings and recommendations to the Homeland Security Advisory Council on best practices sourced from the technology and philanthropic sectors, education and mental health professionals, and community leaders. This notice informs the public of the establishment of the CVE Subcommittee and is not a notice for solicitation.

FOR FURTHER INFORMATION CONTACT: Sarah E. Morgenthau, Executive Director of the Homeland Security Advisory Council, Office of Intergovernmental Affairs/Partnership and Engagement, U.S. Department of Homeland Security at (202) 447-3135 or hsac@hq.dhs.gov.

SUPPLEMENTARY INFORMATION: The Homeland Security Advisory Council provides organizationally independent, strategic, timely, specific, and actionable advice and recommendations for the consideration of the Secretary of the Department of Homeland Security on matters related to homeland security. The Council is comprised of leaders of local law enforcement, first responders, state and local government, the private sector, and academia.

Tasking: The CVE Subcommittee will develop actionable findings and recommendations for the Department of Homeland Security. The subcommittee will address the following: (1) What opportunities or platforms will be useful for the facilitation of public-private partnerships with both the technology and philanthropic sectors? (2) How can the Department develop new networks and a framework for sustained dialogue and engagement with technology companies, foundations and philanthropic organizations? (3) What other non-government sectors, besides technology and philanthropic, should be leveraged for CVE and how should the Department engage those sectors? (4) How can the Department work with education and mental health professionals on CVE efforts to help parents and schools understand how they can counter youth radicalization to violence? (5) How can the Department inspire peer-to-peer attempts to challenge violent extremism through public/private partnership?

Schedule: The CVE Subcommittee findings and recommendations will be submitted to the Homeland Security Advisory Council for their deliberation and vote during a public meeting. Once the report is voted on by the Homeland Security Advisory Council, it will be sent to the Secretary for his review and acceptance.

Dated: November 19, 2015.
Sarah E. Morgenthau,
Executive Director.

[FR Doc. 2015-30064 Filed 11-24-15; 8:45 am]

BILLING CODE 9110-9M-P